DEPARTMENT OF HEALTH AND HUMAN SERVICES

Centers for Disease Control and Prevention

Disease, Disability, and Injury Prevention and Control Special Emphasis Panel (SEP): Type-2 Diabetes Prevention in Women with a Recent History of Gestational Diabetes Mellitus, Potential Extramural Project (PEP) 2008-R-04

In accordance with Section 10(a)(2) of the Federal Advisory Committee Act (Pub. L. 92-463), the Centers for Disease Control and Prevention (CDC) announces the aforementioned meeting.

Time and Date: 1 p.m.-4 p.m., June 18, 2008 (Closed).

Place: Teleconference.

Status: The meeting will be closed to the public in accordance with provisions set forth in Section 552b(c)(4) and (6), Title 5 U.S.C., and the Determination of the Director, Management Analysis and Services Office, CDC, pursuant to Public Law 92-463. This notice was published in the Federal Register on April 17, 2008, Volume 73, Number 75, page 20927. Additional time is required to complete the review of all applications submitted for this PEP.

Matters to be Discussed: The meeting will include the review, discussion, and evaluation of “Type-2 Diabetes Prevention in Women with a Recent History of Gestational Diabetes Mellitus, PEP 2008-R-04.”

The National Center for Health Marketing determines that agency business requires its consideration of this matter on less than 15 days notice to the public and that no earlier notice of the meeting was possible.

Contact Person for More Information: Linda Shelton, Program Specialist, Coordinating Center for Health and Information Service, Office of the Director, CDC, 1600 Clifton Road, NE., Mailstop E21, Atlanta, GA 30333, Telephone (404)498-1194. The Director, Management Analysis and Services Office, has been delegated the authority to sign Federal Register notices pertaining to announcements of meetings and other committee management activities, for both CDC and the Agency for Toxic Substances and Disease Registry.

Dated: June 9, 2008.
Elaine L. Baker,
Director, Management Analysis and Services Office, Centers for Disease Control and Prevention.

[FR Doc. E8-13493 Filed 6-13-08; 8:45 am]

BILLING CODE 4163-18-P